DEPARTMENT OF JUSTICE

Notice of Lodging of Consent Decree Under the Comprehensive Environmental Response Compensation, and Liability Act

Notice is hereby given that on June 02, 2010, a proposed Consent Decree (the “Decree”) in United States v. Frank Romano, et. al., Civil Action No. 1:08-cv-00314, was lodged with the United States District Court for the District of New Jersey.

In a complaint, filed on January 17, 2008, the United States alleged that Frank Romano and Paul Romano were liable pursuant to Section 107(a)(2) and of the Comprehensive Environmental Response, Compensation and Liability Act (“CERCLA”), 42 U.S.C. 9607(a)(2), for response costs incurred by the Environmental Protection Agency (“EPA”) in cleaning up the Pioneer Smelting Superfund Site located at Factory Road, Route 532, in Chatsworth, New Jersey.

Pursuant to the Decree, Frank Romano and Paul Romano, will jointly be responsible for paying the United States $12,000, payable in three annual installments of $4,000, to resolve any claim the United States has associated with costs incurred by EPA at the Pioneer Smelting Superfund Site.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Frank Romano., D.J. Ref. 90-11-2-09344.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-13772 Filed 6-7-10; 8:45 am]

BILLING CODE 4410-15-P